DEPARTMENT OF TRANSPORTATION

Federal Aviation Administration

14 CFR Part 39

[Docket No. FAA-2006-26707; Directorate Identifier 2006-NM-157-AD]

RIN 2120-AA64

Airworthiness Directives; Airbus Model A330 Airplanes and A340-200 and -300 Series Airplanes

AGENCY: Federal Aviation Administration (FAA), Department of Transportation (DOT).

ACTION: Notice of proposed rulemaking (NPRM).

SUMMARY: The FAA proposes to adopt a new airworthiness directive (AD) for certain Airbus Model A330 airplanes and A340-200 and -300 series airplanes. For certain airplanes, this proposed AD would require inspecting to determine the part number of certain S4- and MZ-type spoiler servo-controls (SSCs). For certain other airplanes, this proposed AD would require inspecting to determine the part number of all SSCs. This proposed AD would also require replacing any affected SSC with a new SSC. This proposed AD results from a new load duty cycle defined by the manufacturer. Additional fatigue tests and calculations done on this basis indicated that the spoiler valve manifold of the S4-type SSCs, and, on certain airplanes, the maintenance cover of the MZ-type SSCs, may crack during its service life due to pressure impulse fatigue. We are proposing this AD to prevent fatigue cracking of certain SSCs, which could result in hydraulic leakage and consequent loss of SSC function and loss of the associated hydraulic system. These conditions could affect all three hydraulic systems, which could result in reduced controllability of the airplane.

DATES: We must receive comments on this proposed AD by January 29, 2007.

ADDRESSES: Use one of the following addresses to submit comments on this proposed AD.

• DOT Docket web site: Go to http://dms.dot.gov and follow the instructions for sending your comments electronically.

• Government-wide rulemaking web site: Go to http://www.regulations.gov and follow the instructions for sending your comments electronically.

• Mail: Docket Management Facility, U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Tim Backman, Aerospace Engineer, International Branch, ANM-116, FAA, Transport Airplane Directorate, 1601 Lind Avenue, SW., Renton, Washington 98057-3356; telephone (425) 227-2797; fax (425) 227-1149.

SUPPLEMENTARY INFORMATION:

Comments Invited

We invite you to submit any relevant written data, views, or arguments regarding this proposed AD. Send your comments to an address listed in the ADDRESSES section. Include the docket number “FAA-2006-26707; Directorate Identifier 2006-NM-157-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The European Aviation Safety Agency (EASA), which is the airworthiness authority for the European Union, notified us that an unsafe condition may exist on certain Airbus Model A330 airplanes and A340-200 and -300 series airplanes. The EASA advises that a new load duty cycle has been defined by the manufacturer. Additional fatigue tests and calculations done on this basis indicated that the spoiler valve manifold of the S4-type spoiler servo-controls (SSCs) may crack during its service life due to pressure impulse fatigue. The maintenance cover of the MZ-type SSCs on Model A330-200 airplanes may also crack during its service life due to pressure impulse fatigue. This fatigue cracking, if not corrected, could result in hydraulic leakage and consequent loss of SSC function and loss of the associated hydraulic system. These conditions could affect all three hydraulic systems, which could result in reduced controllability of the airplane.

Relevant Service Information

Airbus has issued Service Bulletin A330-27-3113, Revision 04, dated June 13, 2006 (for Model A330 airplanes). The service bulletin describes procedures for inspecting to determine the part number and serial number of all S4- and MZ-type SSCs. For airplanes on which any S4-or MZ-type SSC is installed, the service bulletin describes procedures for replacing any affected SSC installed in positions 2 through 6 inclusive with a 138X-type SSC, and any affected SSC installed in position 1 with a 138X-type SSC.

Airbus has also issued Service Bulletin A340-27-4139, Revision 01, dated June 12, 2006 (for Model A340-200 and -00 series airplanes). The service bulletin describes procedures for inspecting to determine the part number and serial number of all SSCs. For airplanes on which any MZ-or 138X-type SSC is installed, no further action is necessary. For airplanes on which any S4-type SSC is installed, the service bulletin describes procedures for replacing any affected SSC installed in positions 2 through 6 inclusive with a 138X-type SSC, and any affected SSC installed in position 1 with a 138X-type SSC.

Accomplishing the actions specified in the service information is intended to adequately address the unsafe condition. The EASA mandated the service information and issued airworthiness directives 2006-0158 and 2006-0159, both dated June 7, 2006, to ensure the continued airworthiness of these airplanes in France.

The Airbus service information refers to LIEBHERR Service Information Letter SIL 142, Revision 2, dated September 28, 2005; and SIL 190, dated September 27, 2005, as additional sources of service information for accomplishing the specified actions.

FAA's Determination and Requirements of the Proposed AD

These airplane models are manufactured in France and are type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that we need to issue an AD for airplanes of this type design that are certificated for operation in the United States.

Therefore, we are proposing this AD, which would require accomplishing the actions specified in the service information described previously, except as discussed under “Differences Among Proposed AD, EASA Airworthiness Directives, and Airbus Service Information.”

Differences Among Proposed AD, EASA Airworthiness Directives, and Airbus Service Information

EASA airworthiness directive 2006-0159 (which supersedes French airworthiness directive F-2003-357) requires identifying the part number of all S4- or MZ-type SSCs installed on airplanes identified in Airbus Service Bulletin A330-27-3113, Revision 04, no later than January 31, 2004. At the time French airworthiness directive F-2003-357(B) was issued October 1, 2003, there were no Model A330-200 airplanes registered in the U.S., and those delivered since that time were not equipped with the S4- or MZ-type SSCs on delivery.

EASA airworthiness directive 2006-0158 requires identifying the part number of all SSCs installed on airplanes identified in Airbus Service Bulletin A340-27-4139, Revision 01, no later than August 31, 2006.

This proposed AD would require identifying the part number for all affected airplanes within 70 days after the effective date of this AD for all affected airplanes. We find that a 70-day compliance time represents an appropriate interval of time for affected airplanes to continue to operate without compromising safety. This difference has been coordinated with the EASA.

The EASA airworthiness directives do not specify a compliance time for SSCs that have exceeded the total number of flight cycles recommended since new. This proposed AD would require those SSCs be replaced before further flight.

The Accomplishment Instructions of the Airbus service bulletins specify to provide LIEBHERR-AEROSPACE with the part number and serial number of the cylinder housing of the SSC if the identification plate is missing; however, this proposed AD does not require that action, but would require obtaining the part number and serial number using a method that we or the EASA (or its delegated agent) approve.

Costs of Compliance

This proposed AD would affect about 27 airplanes of U.S. registry.

It would take about 1 work hour per airplane to accomplish the inspection to determine the part number, at an average labor rate of $80 per work hour. Based on these figures, the estimated cost of the inspection proposed by this AD for U.S. operators is $2,160, or $80 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2006-26707; Directorate Identifier 2006-NM-157-AD.

Comments Due Date

(a) The FAA must receive comments on this AD action by January 29, 2007.

Affected ADs

(b) None.

Applicability

(c) This AD applies to Airbus Model A330-201, -202, -203, -223, -243, -301, -302, -303, -321, -322, -323, -341, -342, and -343 airplanes; and Model A340-211, -212, -213, -311, -312, and -313 airplanes; certificated in any category; excluding airplanes on which AIRBUS Modification 44670 has been embodied in production.

Unsafe Condition

(d) This AD results from a new load duty cycle defined by the manufacturer. Additional fatigue tests and calculations done on this basis indicated that the spoiler valve manifold of the S4-type spoiler servo-controls (SSCs), and, on certain airplanes, the maintenance cover of the MZ-SSCs, may crack during its service life due to pressure impulse fatigue. We are issuing this AD to prevent fatigue cracking of certain SSCs, which could result in hydraulic leakage and consequent loss of SSC function and loss of the associated hydraulic system. These conditions could affect all three hydraulic systems, which could result in reduced controllability of the airplane.

Compliance

(e) You are responsible for having the actions required by this AD performed within the compliance times specified, unless the actions have already been done.

Determine the Part Number of the SSCs/Replace if Necessary

(f) For Model A330-200 airplanes: Within 70 days after the effective date of this AD, inspect to determine the part number of all SSCs in accordance with the Accomplishment Instructions of Airbus Service Bulletin A330-27-3113, Revision 04, dated June 13, 2006.

(1) If the part number is not identified in Table 1 of paragraph 3.B.(1)(a) or 3.B.(2)(a) of the Accomplishment Instructions of the service bulletin: No further action is required by this paragraph.

(2) If the part number is identified in Table 1 of paragraph 3.B.(1)(a) or 3.B.(2)(a) of the Accomplishment Instructions of the service bulletin: Do the applicable actions specified in paragraphs (f)(2)(i), (f)(2)(ii), and (f)(2)(iii) of this AD in accordance with the Accomplishment Instructions of the service bulletin.

(i) If any SSC is installed in positions 2 through 6: Before the accumulation of 6,000 total flight cycles on the SSC since new, replace the SSC with a 138X-type SSC.

(ii) If any SSC is installed in position 1: Before the accumulation of 11,000 total flight cycles on the SSC since new, replace the SSC with a 138X-type SSC.

(iii) If the total flight cycles on any SSC exceeds the total flight cycles specified in paragraph (f)(2)(i) or (f)(2)(ii) of this AD, as applicable, or on which the total flight cycles are unknown: Before further flight, replace the SSC with a 138X-type SSC.

(3) If any SSC has a missing identification plate, before further flight, identify the part number of the cylinder housing of the SSC by using a method approved by either the Manager, International Branch, ANM-116, Transport Airplane Directorate, FAA; or the European Aviation Safety Agency (EASA)(or its delegated agent). Before further flight after determining the part number, accomplish the requirements in paragraph (f)(1) or (f)(2) of this AD, as applicable.

(g) For Model A330-300 airplanes and Model A340-200 and -300 series airplanes: Within 70 days after the effective date of this AD, inspect to determine the part number of all SSCs in accordance with the Accomplishment Instructions of Airbus Service Bulletin A330-27-3113, Revision 04, dated June 13, 2006; or A340-27-4139, Revision 01, dated June 12, 2006; as applicable.

(1) If the part number is not identified in Table 1 of paragraph 3.B.(1)(a) or 3.B.(2)(a) of the Accomplishment Instructions of the applicable service bulletin: No further action is required by this paragraph.

(2) If the part number is identified in Table 1 of paragraph 3.B.(1)(a) or 3.B.(2)(a) of the Accomplishment Instructions of the applicable service bulletin: Do the applicable actions specified in paragraphs (g)(2)(i), (g)(2)(ii), and (g)(2)(iii) of this AD in accordance with the Accomplishment Instructions of the applicable service bulletin.

(i) If any SSC is installed in positions 2 through 6: Before the accumulation of 14,000 total flight cycles on the SSC since new, replace the SSC with a 138X-type SSC.

(ii) If any SSC is installed in position 1: Before the accumulation of 15,000 total flight cycles on the SSC since new, replace the SSC with a 138X-type SSC.

(iii) If the total flight cycles on any SSC exceeds the total flight cycles specified in paragraph (g)(2)(i) or (g)(2)(ii) of this AD, as applicable, or if the total flight cycles are unknown: Before further flight, replace the SSC with a 138X-type SSC.

(3) If any SSC has a missing identification plate, before further flight, identify the part number of the SSC cylinder housing by using a method approved by either the Manager, International Branch, ANM-116; or the EASA (or its delegated agent). Before further flight after determining the part number, accomplish the requirements in paragraph (g)(1) or (g)(2) of this AD, as applicable.

Note 1: Airbus Service Bulletins A330-27-3113, Revision 04, dated June 13, 2006; and A340-27-4139, Revision 01, dated June 12, 2006; refer to LIEBHERR Service Information Letters, SIL 142, Revision 2, dated September 28, 2005; and SIL 190, dated September 27, 2005; respectively, as additional sources of service information for accomplishing the actions required by paragraphs (f) and (g) of this AD.

Action Not Required

(h) Airbus Service Bulletins A330-27-3113, Revision 04, dated June 13, 2006; and A340-27-4139, Revision 01, dated June 12, 2006; recommend providing LIEBHERR-AEROSPACE with the part number and serial number of the cylinder housing of the SSC if the identification plate is missing; this AD requires identifying the part number of the SSC cylinder housing by using a method approved by either the Manager, International Branch, ANM-116; or the EASA (or its delegated agent).

Actions Done According to Previous Issues of Service Bulletins

(i) Accomplishing the actions specified in paragraph (f) of this AD is acceptable for compliance with the requirements of that paragraph if done before the effective date of this AD in accordance with the applicable service bulletin identified in Table 1 of this AD.

Table 1.—Airbus Service Bulletins
Service bulletin | Revision level | Date
A330-27-3113 | Original | September 15, 2003.
A330-27-3113 | Revision 01 | October 3, 2003.
A330-27-3113 | Revision 02 | June 11, 2004.
A330-27-3113 | Revision 03 | March 17, 2006.
A340-27-4139 | Original | March 17, 2006.

Alternative Methods of Compliance (AMOCs)

(j)(1) The Manager, International Branch, ANM-116, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) EASA airworthiness directives 2006-0158 and 2006-0159, both dated June 7, 2006, also address the subject of this AD.

Issued in Renton, Washington, on December 19, 2006.
Ali Bahrami,
Manager, Transport Airplane Directorate, Aircraft Certification Service.

[FR Doc. E6-22281 Filed 12-27-06; 8:45 am]

BILLING CODE 4910-13-P